DEPARTMENT OF TRANSPORTATION

National Highway Traffic Safety Administration

49 CFR Part 571

[Docket No. NHTSA-2005-22895]

RIN 2127-AI53

Federal Motor Vehicle Safety Standards No. 111 Rearview Mirrors

AGENCY: National Highway Traffic Safety Administration (NHTSA), Department of Transportation (DOT).

ACTION: Denial of petition for rulemaking.

SUMMARY: This document denies the petition for rulemaking submitted by Mr. Bernard Cox, requesting that NHTSA amend the Federal Motor Vehicle Safety Standard for rearview mirrors to require manufacturers to install a mirror of unit magnification (a flat mirror) on the passenger's side of multipurpose passenger vehicles (MPVs) and trucks with a gross vehicle weight rating (GVWR) of 4,536 kg (10,000 pounds) or less when such vehicles are equipped with a tow hitch package. Accordingly, manufacturers of MPVs, trucks, and buses (other than school buses) with a GVWR of 4,536 kg (10,000 pounds) or less continue to have the option of installing either a flat mirror or a convex mirror on the passenger's side of the vehicle provided that either mirror meets the applicable requirements of the standard.

FOR FURTHER INFORMATION CONTACT: For non-legal issues: Mr. John Lee, Office of Crash Avoidance Standards, NVS-123, National Highway Traffic Safety Administration, 400 Seventh Street, SW., Washington, DC 20590. Telephone number: (202) 366-2720. Fax: (202) 366-7002.

For legal issues: Mr. Eric Stas, Office of the Chief Counsel, NCC-112, National Highway Traffic Safety Administration, 400 Seventh Street, SW., Washington, DC 20590. Telephone number: (202) 366-2992. Fax: (202) 366-3820.

SUPPLEMENTARY INFORMATION:

Background

On June 5, 2004, Mr. Bernard Cox submitted a petition for rulemaking ¹ requesting that NHTSA amend Federal Motor Vehicle Safety Standard (FMVSS) No. 111, Rearview Mirrors, to require original equipment manufacturers (OEMs) to install a mirror of unit magnification (called a “flat” mirror) on the passenger's side of MPVs and trucks with a GVWR of 4,536 kg (10,000 pounds) or less when such vehicles are equipped with a tow hitch package, thereby eliminating the current option for vehicle manufacturers to install either a flat mirror or a convex mirror in that location. The petitioner expressed his belief that when the vehicle's interior flat rearview mirror is obstructed by an object in tow, it is unsafe to make a lane change relying solely on an exterior passenger-side convex rearview mirror. Mr. Cox stated that he attempted to replace the outside passenger side convex mirror with a flat mirror and was told by his local automobile dealership that a flat mirror was unavailable for that application. The petitioner did not provide any data in support of his recommended amendments to Standard No. 111.

¹ Docket No. NHTSA-2004-16856-61.

Agency Analysis

Under paragraph S6, Requirements for multipurpose passenger vehicles, trucks, and buses, other than school buses, with GVWR of 4,536 kg or less, FMVSS No. 111 currently requires such vehicles to be equipped with either with: (1) Mirrors that conform to the requirements of S5, or (2) outside mirrors of unit magnification, each with not less than 126 cm² of reflective surface, installed with stable supports on both sides of the vehicle, located so as to provide the driver a view to the rear along both sides of the vehicle, and adjustable in both the horizontal and vertical directions to view the rearward scene (see S6.1 of FMVSS No. 111). S5.3, Outside rearview mirror passenger's side, permits either a mirror of unit magnification or a convex mirror to be installed in that location. Thus, Standard No. 111 provides a choice to vehicle manufacturers in terms of the type of passenger-side mirror that they install on MPVs, trucks, and buses (other than school buses) within the above-referenced weight class, which is the subject of the present petition.

That portion of the vehicle fleet currently covered by S6 of the standard reflects a mix of convex mirrors and mirrors of unit magnification on the passenger's side of the vehicle. Each type of mirror has its advantages. Convex mirrors have the advantage of providing a wider field of view than a mirror of unit magnification of the same size. However, convex mirrors tend to provide an image that causes objects to appear further away and to be moving more slowly than they actually are. In contrast, mirrors of unit magnification generally provide a realistic rendering of approaching vehicles, although a narrower field of view and a larger “blind spot.”

Consumer preferences also vary in terms of the type of rearview mirror installed on the passenger's side of vehicles. The agency has received complaints from some vehicle owners who find convex mirrors annoying when trying to back up and maneuver trailers. However, others have asked the agency to allow convex mirrors in situations in locations where only a mirror of unit magnification is permitted (e.g., driver-side outside rearview mirrors).

The critical question posed by Mr. Cox's petition is whether there is evidence that use of a convex mirror at the passenger's side location on the vehicles in question has a negative impact on vehicle safety. To examine this issue, we reviewed the available research, including a relevant, agency-sponsored fleet study whose results were reported in a DOT research report titled, “Field Test Evaluation of Rearview Mirror Systems for Commercial Vehicles.” ² This study involved a two-year field examination of fleets of telephone company repair vans, some using passenger-side mirrors of unit magnification and others using passenger-side convex mirrors. In that study, the convex mirrors had a 40-inch radius of curvature, similar to the OEM supplied passenger-side mirrors that the petitioner is seeking to have changed. Although those vans were not pulling trailers, such cargo vans generally have poor direct rear visibility, so the situations are generally analogous. The study reported that vans equipped with passenger-side convex mirrors had a lower crash rate than vans equipped with passenger-side mirrors of unit magnification. Thus, the available safety data do not demonstrate adverse safety consequences associated with the use of passenger-side convex mirrors. As noted previously, the petitioner did not provide any data, to demonstrate a safety problem that would be remedied by his requested amendments to the standard.

² DOT HS 806 948 (Sept. 1985).

Furthermore, consumers who experience difficulty adjusting to the field of view provided by a passenger-side convex mirror, including on vehicles towing a trailer, have a readily available alternative. There are currently many mirrors available in the aftermarket specifically designed to improve the visibility for drivers towing trailers, the majority of which are inexpensive and do not require significant vehicle modification.

In summary, the petitioner has not demonstrated and the agency's own research has not revealed the existence of a safety problem, as would justify amending FMVSS No. 111. People's attitudes regarding side-mounted rearview mirrors may vary based upon physiological differences or personal preference. For those consumers who desire a passenger-side mirror of unit magnification, aftermarket equipment is available to effectuate such a change. Accordingly, we do not see any reason to diminish the range of choice which FMVSS No. 111 currently provides to manufacturers to equip the vehicles in question with either a passenger-side convex mirror or mirror of unit magnification which meets the requirements of the safety standard.

Decision To Deny the Petition

In accordance with 49 CFR part 552, this completes the agency's review of the petition for rulemaking. In light of the considerations discussed above, the agency has concluded that agency resources should be spent addressing higher priority safety issues. Therefore, the petition for rulemaking is denied.

Authority: 49 U.S.C. 332, 30111, 30115, 30117; and 30166; delegation of authority at 49 CFR 1.50.

Issued on: February 3, 2006.
Stephen R. Kratzke,
Associate Administrator for Rulemaking.

[FR Doc. E6-1739 Filed 2-8-06; 8:45 am]

BILLING CODE 4910-59-P